NUCLEAR REGULATORY COMMISSION

[Docket No. 40-7580-MLA-3; ASLBP No. 04-816-01-MLA]

Fansteel Inc.; Designation of Presiding Officer

Pursuant to delegation by the Commission, see 37 FR 28710 (Dec. 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR 2.1205(h), the Presiding Officer will conduct an adjudicatory hearing in the following proceeding: Fansteel Inc., Muskogee, Oklahoma (Materials License Amendment).

The hearing will be conducted pursuant to 10 CFR part 2, subpart L, of the Commission's Regulations, “Informal Hearing Procedures for Adjudications in Materials and Operator Licensing Proceedings.” This proceeding concerns a request for hearing submitted on September 10, 2003, by the State of Oklahoma. The request was filed in response to an August 5, 2003 notice of consideration and opportunity for a hearing regarding a July 24, 2003 amendment request from Fansteel Inc., to amend its 10 CFR part 40 source material license, which was published in the Federal Register on August 11, 2003 (68 FR 47621). The requested license amendment would authorize decommissioning of the Fansteel Inc. facility located in Muskogee, Oklahoma in accordance with a January 14, 2003 site decommissioning plan (as amended on May 8, 2003).

The Presiding Officer in this proceeding is Administrative Judge Alan S. Rosenthal. Pursuant to the provisions of 10 CFR 2.722, 2.1209, Administrative Judge Richard F. Cole has been appointed to assist the Presiding Officer in taking evidence and in preparing a suitable record for review.

All correspondence, documents, and other materials shall be filed with Judges Rosenthal and Cole in accordance with 10 CFR 2.1203. Their addresses are:

Alan S. Rosenthal, Administrative Judge, Presiding Officer, Atomic Safety and Licensing Board Panel, U.S. Nuclear Regulatory Commission, Washington, DC 20555-0001.

Richard F. Cole, Administrative Judge, Special Assistant, Atomic Safety and Licensing Board Panel, U.S. Nuclear Regulatory Commission, Washington, DC 20555-0001.

Issued at Rockville, Maryland, this 2nd day of October, 2003.
G. Paul Bollwerk, III,
Chief Administrative Judge, Atomic Safety and Licensing Board Panel.

[FR Doc. 03-25495 Filed 10-7-03; 8:45 am]

BILLING CODE 7590-01-P